DEPARTMENT OF AGRICULTURE

Animal and Plant Health Inspection Service

9 CFR Part 94

[Docket No. 99-032-1]

Importation of Cooked Meat and Meat Products

AGENCY: Animal and Plant Health Inspection Service, USDA.

ACTION: Proposed rule.

SUMMARY: We are proposing to amend the regulations governing the importation of certain animals, meat, and other animal products to allow meat cooked in plastic in processing establishments located in regions where rinderpest or foot-and-mouth disease exists to be further processed after cooking and before importation. Additionally, we are proposing to allow the pink juice test to be used in determining whether ground meat cooked in such establishments has been adequately cooked. These proposed amendments would provide foreign meat processing establishments with additional processing options while continuing to protect against the introduction of rinderpest and foot-and-mouth disease into the United States.

DATES: We will consider all comments that we receive that are postmarked, delivered, or e-mailed by July 22, 2002.

ADDRESSES: You may submit comments by postal mail/commercial delivery or by e-mail. If you use postal mail/commercial delivery, please send four copies of your comment (an original and three copies) to: Docket No. 99-032-1, Regulatory Analysis and Development, PPD, APHIS, Station 3C71, 4700 River Road Unit 118, Riverdale, MD 20737-1238. Please state that your comment refers to Docket No. 99-032-1. If you use e-mail, address your comment to regulations@aphis.usda.gov. Your comment must be contained in the body of your message; do not send attached files. Please include your name and address in your message and “Docket No. 99-032-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Masoud Malik, Senior Staff Veterinarian, Products Program, National Center for Import and Export, VS, APHIS, 4700 River Road Unit 40, Riverdale, MD 20737-1231; (301) 734-8096.

SUPPLEMENTARY INFORMATION:

Background

The regulations in 9 CFR part 94 (referred to below as the regulations) govern the importation of specified animals and animal products to prevent the introduction into the United States of various animal diseases, including rinderpest, foot-and-mouth disease (FMD), bovine spongiform encephalopathy, swine vesicular disease, hog cholera, and African swine fever. These are dangerous and destructive communicable diseases of ruminants and swine.

Under § 94.4 of the regulations, the importation of cured and cooked meat from regions where rinderpest or FMD exists is prohibited unless the cured or cooked meat fulfills the conditions prescribed in that section.

Meat Cut Into Cubes

Currently, § 94.4(b)(8) requires that cooked ruminant or swine meat imported into the United States from regions where rinderpest or FMD exists be inspected at the port of arrival by an inspector of the U.S. Department of Agriculture's Food Safety and Inspection Service (FSIS) and be found to be thoroughly cooked. For meat that is cooked in plastic, thoroughness of cooking must be determined by a temperature indicator device (TID) registering at least 79.4 °C at the cold spot (the area in a plastic cooking tube or other type of container loaded with meat product that is slowest to reach the required temperature during the cooking process) or, for cubes, slices, and anatomical cuts of meat, by the pink juice test.

A TID is a precalibrated temperature-measuring instrument containing a chemical compound activated at a specific temperature (the melting point of the chemical compound) that is identical to the processing temperature that must be reached by the meat being cooked. Paragraph (b)(6) of § 94.4 requires that any TID used to determine that meat cooked in plastic has been throughly cooked must remain in the meat, as originally inserted, and must accompany the cooked meat whose temperature it has gauged when that meat is shipped to the United States.

When a TID is not used, thoroughness of cooking is determined using the pink juice test. The requirements for providing meat of adequate form and size to allow for the pink juice test are set forth in paragraphs (b)(5)(i), (b)(5)(ii), and (b)(5)(iii) of § 94.4 for cubes of meat, slices of meat, and anatomical cuts of meat, respectively.

Currently, for both cubed and sliced meat, the regulations require that at least 50 percent of the meat pieces or slices per tube be 3.8 centimeters (1.5 inches) or larger in each dimension after cooking or, if more than 50 percent of meat pieces or slices per tube are smaller than 3.8 centimeters in any dimension after cooking and no TID is being used, an indicator piece of sufficient size for a pink juice test to be performed (3.8 centimeters or larger in each dimension after cooking) must have been placed at the cold spot of the tube. For anatomical cuts of meat, the indicator piece must be removed, after cooking, from the center of the cut, farthest from all exterior points, and be 3.8 centimeters or larger in each dimension for performance of the pink juice test.

In order for the FSIS inspector to be able to associate an indicator piece or TID with the tube of meat it came from, meat from multiple tubes may not be commingled before being imported into the United States. This means that meat from various cooking tubes cannot be combined after cooking for further processing at the foreign meat processing establishment before being exported to the United States.

In some cases, the inability of foreign meat processors to combine meat after cooking and still comply with the regulations restricts their ability to process meat into cube sizes that can be readily used in the United States. The most efficient way of cutting meat precisely into cubes of a desired size is to cool the meat close to the freezing point after cooking, then to cut the meat. Cutting the meat before cooking is not as effective, because the cooking process can cause meat cubes to assume irregular sizes and shapes. It is also not possible to cut the meat properly when it is hard frozen at temperatures significantly below freezing, such as when it is frozen for shipment to the United States. While it may be possible for foreign meat processors to further cut the meat after cooking and prior to freezing one cooking tube at a time, it is not economically efficient to cut the meat one tube at a time, as such cutting is done most efficiently in larger quantities.

As a general practice, processors of meat for export to the United States cook the meat to the temperature required under the regulations in large “cookers.” These are containers or chambers that cook multiple tubes of meat by means of boiling water or steam. Most facilities that cook meat have multiple cookers. Each day, a cooker may be used several times to cook meat to the required temperature. Each cooking session per cooker is referred to as a “shift.”

To allow for the cutting of meat combined from separate tubes from the same shift, while at the same time ensuring that all meat imported from FMD-affected countries can be adequately inspected upon its arrival in the United States, we are proposing certain changes to the regulations regarding meat for which the pink juice test is used to determine adequate cooking. Additionally, we are making a change to update the regulations as to which Federal agency is responsible for approval of plastic containers used for meat that is cooked.

Approval of Containers

Currently, § 94.4(b)(5), regarding meat cooked in plastic, provides that the tube in which the meat is cooked must be constructed of plastic film or other material approved by FSIS. This reference to approval by FSIS is outdated. Currently, all packaging material that comes into direct contact with food must be approved by the U.S. Food and Drug Administration (FDA). In this proposal, we are including that reference change.

Further Processing of Meat Cooked in Plastic

We are proposing to add a new § 94.4(b)(6) that would allow meat cooked in plastic in a single shift to be combined after cooking for further processing, e.g., to be cut into smaller cubes as described above. Once the meat was cooled after cooking, one tube from each shift per cooker would have to be randomly selected by the official of the National Government of the region of origin who is authorized to issue the meat inspection certificate required by the FSIS regulations in 9 CFR 327.4. We would require that a cylindrical or square piece (depending on the shape of the tube) of at least 3.8 centimeters in each dimension be cut from the cold spot of the tube, to be used as the indicator piece for the shift. The indicator piece would have to be sealed in plastic or other material approved by FDA and accompanied by a certificate issued by the official who selected the tube. The certificate would have to provide the cooker and shift number, and the date the tube was selected. As noted, each shift per cooker would be required to have an indicator piece. All indicator pieces would have to be individually sealed, properly labeled, and enclosed together in one sealed box that accompanies the shipment. After the indicator piece was removed, all remaining meat from the same shift could be cut into cubes of the desired size and packed in a box or container approved by FDA. The indicator pieces selected and the cut cubes of the desired size could then be frozen for shipment to the United States. The indicator pieces and cubes of meat would have to be accompanied to the United States by a certificate as provided in § 94.4(b)(8).

Ground Meat

While the current regulations in § 94.4(b)(5) provide for ground meat to be cooked in plastic, the only allowable method of determining whether ground meat cooked in plastic has been cooked to the required temperature is by means of a TID, i.e., the use of an indicator piece is not an option for ground meat as it is for cubes, slices, and anatomical cuts of meat. However, we recognize that if a large enough indicator piece were used when cooking ground meat, that piece would serve as a valid method of determining whether the ground meat had been cooked to the required temperature. Therefore, we are proposing to amend § 94.4(b)(5)(i) to provide that an indicator piece could be used in lieu of a TID for ground meat if the indicator piece is of sufficient size for a pink juice test to be performed (i.e., 3.8 centimeters or larger in each dimension after cooking). The indicator piece must have been placed at the cold spot of the tube. This proposed change would provide the same options for determining the thoroughness of cooking for ground meat as are currently provided for cubes, slices, and anatomical cuts of meat.

Executive Order 12866 and Regulatory Flexibility Act

This proposed rule has been reviewed under Executive Order 12866. The rule has been determined to be not significant for the purposes of Executive Order 12866 and, therefore, has not been reviewed by the Office of Management and Budget.

In this document, we are proposing to amend the regulations regarding meat cooked in processing establishments located in regions where rinderpest or FMD exists to allow for further processing of meat after cooking and before importation.

Although these proposed amendments would apply to both ruminant and swine meat, the primary impact of the proposed changes would be on beef. As described previously in this document, the regulations in § 94.4(b)(5) already provide for the importation of cooked ruminant and swine meat prepared under conditions that are largely similar to those that would be provided under this proposed rule, but it is only beef and veal that are currently being imported into the United States under those provisions, primarily from Argentina, Brazil, and Uruguay. The proposed rule would allow for quality improvements in these cubed beef and veal products and, therefore, expand their marketability. However, the potential effect on imports of beef and veal and the overall U.S. supply of beef and veal is expected to be small for several reasons.

The cooked ground meat, cubes of meat, slices of meat, and anatomical cuts of meat that are currently imported are used primarily in the production of other products such as stews and meat pies. This proposed rule would allow for an improvement in the quality of the meat cubes by making them available in more sizes and in a more consistent size and shape. This would allow the products to have expanded marketability. However, cooked cubed beef and veal constitute a small portion of the U.S. beef and veal industry. Imports of prepared beef, including beef cooked in plastic, but not cured, pickled, salted, dried, or made into sausages, account for about 7.8 percent of all U.S. imports of beef and veal, but only about 0.6 percent of total U.S. supply.

In addition, imports into the United States of fresh beef and veal from Argentina and Uruguay are no longer occurring, due to recent FMD outbreaks in those countries. Also, although Argentina, Brazil, and Uruguay are large producers of beef and veal, their total exports are small relative to U.S. supply. The production of beef and veal in these three countries in 1999 was about 79 percent of that of the United States, but their exports of these products to all countries, including the United States, equated to considerably less than 1 percent of the U.S. supply of beef and veal. Thus, the impact on price would be negligible even if these countries were willing and able to redirect all of their beef and veal exports to the production of cooked cubed beef and veal for export to the United States.

Because (1) similar products are already being imported, (2) the proposed amendments would alter only the sizes of these products, and (3) other types of beef and veal imports from Argentina, Brazil, and Uruguay have stopped, we do not expect that the adoption of this proposed rule would greatly increase the volume of beef and veal imports. These proposed amendments may result in a change in the character of the imports, but should not greatly increase the volume of those imports.

Imports of these products would potentially offer competition for producers of ground meat, cubes of meat, slices of meat, and anatomical cuts of meat. Producers of these products are meatpacking plants, both those that slaughter animals directly and those that process purchased meats. In addition, these imports would also compete with domestic ruminant farms that sell to meatpacking facilities.

The Small Business Administration's (SBA) definition of a small entity in the production of cattle is one whose total sales are under $750,000 annually. In 1997, there were 656,181 cattle farms in the United States, of which 99 percent would be considered small entities. However, as was discussed above, we expect the economic impact on these producers would be minimal.

The SBA's guidelines state that a small producer of beef and veal meat that is in the form of cooked ground meat, cubes, slices, or anatomical cuts is one employing fewer than 500 workers. In 1997, 98 percent or 1,297 of the meatpacking establishments processing purchased meats in the United States were small. These small establishments accounted for approximately 78 percent of the total value of shipments of the industry, or approximately $25 billion. Also in 1997, 95 percent of 1,393 animal slaughtering establishments were considered small. These small establishments accounted for approximately 76 percent of the total value of shipments of the industry, or $41.6 billion.

Based on the above information, we do not expect that the proposed amendments would have a significant effect on the volume of imports of ruminant and swine meat, including ground meat, cubes of meat, slices of meat, and cuts of meat. Given that the volume of imports would be unlikely to increase substantially, we do not expect that the economic effects of this proposed rule on domestic producers of these products, whether small or large, would be significant.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no new information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we propose to amend 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 would continue to read as follows:

Authority: 7 U.S.C. 450, 7711, 7712, 7713, 7714, 7751, and 7754; 19 U.S.C. 1306; 21 U.S.C. 111, 114a, 134a, 134b, 134c, 134f, 136, and 136a; 31 U.S.C. 9701; 42 U.S.C. 4331 and 4332; 7 CFR 2.22, 2.80, and 371.4.

2. In § 94.4, paragraph (b)(5) would be revised to read as follows; paragraphs (b)(6) through (b)(8) would be redesignated as paragraphs (b)(7) through (b)(9), respectively, and a new paragraph (b)(6) would be added to read as follows; and newly redesignated paragraph (b)(8) would be revised to read as follows:

§ 94.4 Cured or cooked meat from regions where rinderpest or foot-and-mouth disease exists.

* * * * *

(b) * * *

(5) Meat cooked in plastic. Ground meat, cubes of meat, slices of meat, or anatomical cuts of meat (cuts taken from the skeletal muscle tissue) weighing no more than 11.05 lbs (5 kg) must be loaded into a flexible or semiflexible cooking tube constructed of plastic or other material approved by the U.S. Food and Drug Administration. The meat must then be cooked in boiling water or in a steam-fed oven to reach a minimum internal temperature of 174.92 °F (79.4 °C) at the cold spot after cooking for at least 1.75 hours. Thoroughness of cooking must be determined by a TID registering the target temperature at the cold spot, or as follows:

(i) Cubes of meat and ground meat. For cubes of meat, at least 50 percent of meat pieces per tube must be 1.5 in (3.8 cm) or larger in each dimension after cooking or, if more than 50 percent of the cubes of meat pieces per tube are smaller than 1.5 in (3.8 cm) in any dimension after cooking, or if the meat is ground meat, an indicator piece of sufficient size for a pink juice test to be performed (1.5 in (3.8 cm) or larger in each dimension after cooking) must have been placed at the cold spot of the tube.

(ii) Slices of meat. At least 50 percent of the slices of meat must be 1.5 in (3.8 cm) or larger in each dimension after cooking or, if more than 50 percent of meat pieces are smaller than 1.5 in (3.8 cm) in any dimension after cooking, an indicator piece of sufficient size for a pink juice test to be performed (1.5 in (3.8 cm) or larger in each dimension after cooking) must be placed at the cold spot of the tube.

(iii) Anatomical cuts of meat. An indicator piece removed from an anatomical cut of meat after cooking must be removed from the center of the cut, farthest from all exterior points and be 1.5 in (3.8 cm) or larger in each dimension for performance of the pink juice test.

(6) Further processing of meat cooked in plastic. Cubes of meat, slices of meat, or anatomical cuts of meat (cuts taken from the skeletal muscle tissue) cooked in plastic in accordance with paragraph (b)(5) of this section may be cooled after cooking then processed further if the following provisions are met:

(i) For meat that is cooked and then cooled for further processing, one tube or plastic container from each shift per cooker must be randomly selected by the official of the National Government of the region of origin who is authorized to issue the meat inspection certificate required by § 327.4 of this title. A cylindrical or square piece of at least 1.5 in (3.8 cm) in each dimension must be cut from the cold spot of the tube. The cylindrical or square piece will be the indicator piece for the pink juice test. The indicator piece must be sealed in plastic or other material approved by the U.S. Food and Drug Administration, and be accompanied by a certificate issued by the official who selected the tube. The certificate must provide the date the tube was selected, and the cooker and shift number. Each shift per cooker must have an indicator piece. All indicator pieces must be individually sealed, properly labeled, and enclosed together in one sealed box that accompanies the shipment; and

(ii) After removing the indicator piece, all remaining meat from the same shift may be cut into smaller cubes and sealed in plastic or other material approved by the U.S. Food and Drug Administration. The indicator pieces and cubes of meat must be accompanied to the United States by a certificate as provided in paragraph (b)(7) of this section.

* * * * *

(8)(i) The cooked meat must be accompanied by a certificate issued by an official of the National Government of the region of origin who is authorized to issue the foreign meat inspection certificate required under § 327.4 of this title, stating: “This cooked meat produced for export to the United States meets the requirements of title 9, Code of Federal Regulations, § 94.4(b).” Upon arrival of the cooked meat in the United States, the certificate must be presented to an authorized inspector at the port of arrival.

(ii) For cooked meat that is further processed in accordance with paragraph (b)(6) of this section, the certificate must include the following statement, in addition to the certification required under paragraph (b)(8)(i) of this section: “One tube or plastic container was randomly selected per shift per cooker for cutting an indicator piece. A piece 1.5 in (3.8 cm) or larger in each dimension was cut from the cold spot of the tube or plastic container, and was sealed and marked with the following date, cooker, and shift: _____. The total number of indicator pieces enclosed in a sealed box is __.”

* * * * *

Done in Washington, DC, this 16th day of May 2002.
Peter Fernandez,
Acting Administrator, Animal and Plant Health Inspection Service.

[FR Doc. 02-12809 Filed 5-21-02; 8:45 am]

BILLING CODE 3410-34-U